NUCLEAR REGULATORY COMMISSION

[NRC-2016-0088]

Draft Standard Review Plan on Foreign Ownership, Control, or Domination, Revision 1

AGENCY: Nuclear Regulatory Commission.

ACTION: Standard review plan draft section revision; extension of comment period.

SUMMARY: On April 27, 2016, the U.S. Nuclear Regulatory Commission (NRC) solicited comments on the Draft Standard Review Plan on Foreign Ownership, Control, or Domination, Revision 1. The public comment period was originally scheduled to close on May 27, 2016. The NRC has decided to extend the public comment period to allow more time for members of the public to develop and submit their comments.

DATES: The due date for comments requested in the document published on April 27, 2016 (81 FR 24893) is extended. Comments should be filed no later than July 25, 2016. Comments received after this date will be considered, if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2016-0088. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Shawn W. Harwell, Office of Nuclear Reactor Regulation, U.S. Nuclear Regulatory Commission, Washington, DC 20555-0001; telephone: 301-415-1309, email: Shawn.Harwell@nrc.gov.

SUPPLEMENTARY INFORMATION:

I. Obtaining Information and Submitting Comments

A. Obtaining Information

Please refer to Docket ID NRC-2016-0088 when contacting the NRC about the availability of information for this action. You may obtain publicly-available information related to this action by any of the following methods:

• Federal Rulemaking Web site: Go to http://www.regulations.gov and search for Docket ID NRC-2016-0088.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The Draft Standard Review Plan on Foreign Ownership, Control, or Domination, Revision 1, is available in ADAMS under Accession No. ML16048A025.

• NRC's PDR: You may examine and purchase copies of public documents at the NRC's PDR, Room O1-F21, One White Flint North, 11555 Rockville Pike, Rockville, Maryland 20852.

B. Submitting Comments

Please include Docket ID NRC-2016-0088 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On April 27, 2016, the U.S. Nuclear Regulatory Commission (NRC) solicited comments on the Draft Standard Review Plan (SRP) on Foreign Ownership, Control, or Domination, Revision 1. The purpose of issuing this revision to the SRP is to provide guidance and establish procedures for NRC staff's review of whether an applicant for a nuclear facility license issued under sections 103.d., “Commercial Licenses,” or 104.d., “Medical Therapy and Research and Development,” of the Atomic Energy Act of 1954, as amended (AEA or Act), is owned, controlled, or dominated by an alien, a foreign corporation, or a foreign government (individually or collectively, a foreign entity). This SRP will be used as the basis for the conduct of FOCD reviews associated with license applications for new facilities, to be licensed under Title 10 of the Code of Federal Regulations (10 CFR), Parts 50 and 52; applications for the renewal of facility licenses under 10 CFR part 54; or, applications for approval of direct or indirect transfers of facility licenses. The public comment period was originally scheduled to close on May 27, 2016. The NRC has decided to extend the public comment period on this document until July 25, 2016, to allow more time for members of the public to submit their comments.

Dated at Rockville, Maryland, this 19th day of May 2016.
For the Nuclear Regulatory Commission.
William M. Dean,
Director, Office of Nuclear Reactor Regulation.

[FR Doc. 2016-12545 Filed 5-25-16; 8:45 am]

BILLING CODE 7590-01-P